DEPARTMENT OF STATE

[Delegation of Authority: 439]

Delegation to the Assistant Secretary for Oceans and International Environmental and Scientific Affairs of Authorities for International Fisheries Organizations and Related Issues

By virtue of the authority vested in the Secretary of State, including Section 1 of the State Department Basic Authorities Act, as amended (22 U.S.C. 2651a), I hereby delegate to the Assistant Secretary for Oceans and International Environmental and Scientific Affairs the following:

1. The functions vested in the Secretary of State by the relevant provisions of the Northwest Atlantic Fisheries Convention Act of 1995, 16 U.S.C. 5603 and 5607(a).

2. The functions vested in the Secretary of State by the relevant provisions of the Western and Central Pacific Fisheries Convention Implementation Act, 16 U.S.C. 6902(b), (d)(1)(D), 6903, and 6908.

3. The functions vested in the Secretary of State by the relevant provisions of the North Pacific Anadromous Stocks Act of 1992, 16 U.S.C. 5003(b), 5004(a)(4), 5005, and 5006(b).

4. The functions vested in the Secretary of State by section 5 of Public Law 100-629, November 7, 1988, relating to the North Pacific and Bering Sea Fisheries Advisory Body.

5. The functions vested in the Secretary of State by the relevant provisions of the South Pacific Tuna Act of 1988, 16 U.S.C. 973a; 973b, 973f(a) and (e); 973g(b) and (g); 973h(a), (b)(1), (c)(1), and (c)(2); 973i(a) and (b); 973m; 973n; 973p; and 973q.

6. The functions vested in the Secretary of State by the relevant provisions of the Magnuson Fishery Conservation and Management Act, 16 U.S.C. 1821(e)(1) and (2), 1821(g), 1824, 1825(a), 1825(b)(2), 1825(c), 1852(c)(1)(D), and 1852(f)(5).

7. The functions vested in the Secretary of State by section 7 of Public Law 95-541, the Antarctic Conservation Act (16 U.S.C. 2406).

8. The functions vested in the Secretary of State by sections 304 and 305(a), (b), and (c) of Public Law 98-623, the Antarctic Marine Living Resources Convention Act (16 U.S.C. 2433 and 2434(a), (b), and (c)).

9. The functions vested in the Secretary of State by the relevant provisions of the Atlantic Tunas Convention Act, 16 U.S.C. 971a(b); 971b(b)(3) and (b)(4)(B); 971c(a); 971d(a), (c)(4) and (c)(5); and 971g(a).

10. The functions vested in the Secretary of State by the Great Lakes Fishery Act, 16 U.S.C. 939.

11. The functions vested in the Secretary of State by the Atlantic Salmon Convention Act, 16 U.S.C. 3602(b), 3603, and 3604(b).

12. The functions vested in the Secretary of State by of the relevant provisions of the Pacific Salmon Treaty Act of 1985, 16 U.S.C. 3632(b), (g), and (h)(8); and 3633(a) and (b).

13. The functions vested in the Secretary of State by the Yukon River Salmon Act of 2000, 16 U.S.C. 5721.

14. The functions vested in the Secretary of State by the relevant provisions of the Tuna Conventions Act of 1950, 16 U.S.C. 952, 953(a)(2), and 955.

15. The functions vested in the Secretary of State by of the relevant provisions of the Whaling Convention Act of 1949, 16 U.S.C. 916a and 916b.

16. The functions vested in the Secretary of State by the relevant provisions of the Northern Pacific Halibut Act of 1982, 16 U.S.C. 773a(b), 773b, and 773c(b)(2).

17. All functions, with respect to oceans and fisheries matters, conferred upon the Secretary of State by section 201 of Public Law 92-471 of October 9, 1972 (22 U.S.C. 2672a), regarding the designation of alternate U.S. commissioners.

18. The functions vested in the Secretary of State by the relevant provisions of the Ensuring Access to Pacific Fisheries Act (16 U.S.C. 7702, 7703, 7708, 7802, 7803, and 7808.

Notwithstanding this delegation of authority, the Secretary, Deputy Secretary, and the Under Secretary for Economic Growth, Energy, and the Environment may at any time exercise any authority or function delegated by this delegation of authority.

Any act, executive order, regulation, or procedure subject to, or affected by, this delegation shall be deemed to be such act, executive order, regulation, or procedure as amended from time to time.

This delegation of authority shall be published in the Federal Register.

Rex W. Tillerson,
Secretary of State.

[FR Doc. 2017-23043 Filed 10-24-17; 8:45 am]

BILLING CODE 4710-09-P